NUCLEAR REGULATORY COMMISSION

[Docket Nos. 52-029 AND 52-030]

Progress Energy Florida, Inc.;

Levy Nuclear Power Plant, Units 1 and 2, Combined License Application And Limited Work Authorization;

Notice of Intent to Prepare an Environmental

Impact Statement and Conduct Scoping Process

Florida Power Corporation doing business as Progress Energy Florida, Inc. (PEF), a wholly-owned subsidiary of Progress Energy, Inc. has submitted an application for a limited work authorization (LWA) and a combined license (COL) to build Units 1 and 2 at its Levy Nuclear Plant (LNP) site, located in Levy County, Florida. The nearest incorporated municipality is the Town of Inglis located approximately four miles from the nearest boundary of the LNP site; the site is approximately 10 miles northeast of the Crystal River Energy Complex, also owned by PEF. The application for the LWA and COL was submitted by PEF by letter dated July 28, 2008, pursuant to Title 10 of the Code of Federal Regulations 10 CFR, Part 52.

A notice of receipt and availability of the application including the environmental report (ER) was published in the Federal Register on October 14, 2008 (73 FR 60726). A notice of acceptance for docketing of the application for the COL was published in the Federal Register on October 14, 2008 (73 FR 60726). A notice of hearing and opportunity to petition for leave to intervene will be published at a later date.

The purpose of this notice is to inform the public that the U.S. Nuclear Regulatory Commission (NRC) will be preparing an environmental impact statement (EIS) as part of the review of the LWA and COL application and to provide the public with an opportunity to participate in the environmental scoping process as defined in 10 CFR 51.29. The U.S. Army Corps of Engineers, Jacksonville District, has requested to participate in the preparation of the EIS as a cooperating agency; the NRC has accepted their request.

In addition, as outlined in 36 CFR 800.8(c), “Coordination with the National Environmental Policy Act,” the NRC staff plans to coordinate compliance with Section 106 of the National Historic Preservation Act (NHPA) with steps taken to meet the requirements of the National Environmental Policy Act of 1969, as amended (NEPA). Pursuant to 36 CFR 800.8(c), the NRC staff intends to use its process and documentation for the preparation of the EIS on the proposed action to comply with section 106 of the NHPA in lieu of the procedures set forth on 36 CFR 800.3 through 800.6.

In accordance with 10 CFR 51.45, 51.49, and 51.50, PEF submitted the ER as part of the LWA and COL application. The ER was prepared pursuant to 10 CFR Parts 51 and 52 and is available for public inspection at the NRC Public Document Room (PDR) located at One White Flint North, 11555 Rockville Pike (first floor), Rockville, Maryland 20852 or from the Publicly Available Records (PAR) component of NRC's Agencywide Documents Access and Management System (ADAMS). ADAMS is accessible at http://www.nrc.gov/reading-rm/adams.html, which provides access through the NRC's Electronic Reading Room (ERR) link. Persons who do not have access to ADAMS or who encounter problems in accessing the documents located in ADAMS should contact the NRC's PDR Reference staff at 1-800-397-4209/301-415-4737 or via e-mail at pdr@nrc.gov. The application may also be viewed on the Internet at http://www.nrc.gov/reactors/new-reactors/col/levy.html. In addition, the Citrus County Coastal Region Library located at 8619 West Crystal Street in Crystal River, Florida; Bronson Public Library at 600 Gilbert Street, Bronson, Florida; and the Dunnellon Branch Library at 20351 Robinson Road in Dunnellon, Florida have agreed to maintain a copy of the ER and make it available for public inspection.

The following key reference documents related to the application and the NRC staff's review processes are available through the NRC's Web site at http://www.nrc.gov:

a. 10 CFR Part 51, Environmental Protection Regulations for Domestic Licensing and Related Regulatory Functions,

b. 10 CFR Part 52, Licenses, Certifications, and Approvals for Nuclear Power Plants,

c. 10 CFR Part 100, Reactor Site Criteria,

d. NUREG-1555, Standard Review Plans for Environmental Reviews for Nuclear Power Plants,

e. NUREG/BR-0298, Brochure on Nuclear Power Plant Licensing Process,

f. Regulatory Guide 4.2, Preparation of Environmental Reports for Nuclear Power Stations,

g. Regulatory Guide 4.7, General Site Suitability Criteria for Nuclear Power Stations,

h. Fact Sheet on Nuclear Power Plant Licensing Process,

i. Regulatory 1.206, Combined License Applications for Nuclear Power Plants,

j. NRR Office Instruction LIC-203, Procedural Guidance for Preparing Environmental Assessments and Considering Environmental Issues, and

k. Interim Staff Guidance for Limited Work Authorizations to Support Early Site Permit and Combined License Applications (ISG-004) and the Supplement to the Interim Staff Guidance on Limited Work Authorizations.

The regulations, NUREG-series documents, regulatory guides, and the fact sheet can be found under Document Collections in the ERR on the NRC Web page. The Office Instruction LIC-203 can be found in ADAMS in two parts under the accession numbers ML011710073 (main text) and ML011780314 (charts and figures).

This notice advises the public that the NRC intends to gather the information necessary to prepare an EIS as part of the review of the LWA and COL application for the LNP site. Possible alternatives to the proposed action (issuance of the LWA and COL) include no action, reasonable alternative energy sources, and alternate sites. The NRC is required by 10 CFR 51.20(b)(1) and (b)(2) to prepare an EIS in connection with the issuance of an LWA and COL, respectively. This notice is being published in accordance with NEPA and the NRC's regulations found in 10 CFR Part 51.

The NRC will first conduct a scoping process for the EIS and thereafter will prepare a draft EIS for public comment. Participation in this scoping process by members of the public, local, State, Tribal, and Federal government agencies is encouraged. The scoping process for the draft EIS will be used to accomplish the following:

a. Define the proposed action that is to be the subject of the EIS,

b. Determine the scope of the EIS and identify the significant issues to be analyzed in-depth,

c. Identify and eliminate from detailed study those issues that are peripheral or that are not significant,

d. Identify any environmental assessments and other EISs that are being or will be prepared that are related to but are not part of the scope of the EIS being considered,

e. Identify other environmental review and consultation requirements related to the proposed action,

f. Identify parties consulting with the NRC under the NHPA, as set forth in 36 CFR 800.8(c)(1)(i),

g. Indicate the relationship between the timing of the preparation of the environmental analyses and the Commission's tentative planning and decision-making schedule,

h. Identify any cooperating agencies and, as appropriate, allocate assignments for preparation and schedules for completing the EIS to the NRC and any cooperating agencies; and describe how the EIS will be prepared, including any contractor assistance to be used.

The NRC invites the following entities to participate in the scoping process:

a. The applicant; PEF,

b. Any Federal agency that has jurisdiction by law or special expertise with respect to any environmental impact involved or that is authorized to develop and enforce relevant environmental standards,

c. Affected State and local government agencies, including those authorized to develop and enforce relevant environmental standards,

d. Any affected Indian tribe,

e. Any person who requests or has requested an opportunity to participate in the scoping process, and

f. Any person who intends to petition for leave to intervene.

In accordance with 10 CFR 51.26, the scoping process for an EIS may include a public scoping meeting to help identify significant issues related to a proposed activity and to determine the scope of issues to be addressed in an EIS. The NRC staff has elected to hold two identical public scoping meetings to be held at the Florida National Guard Armory located at 8551 West Venable Street, Crystal River, Florida 33426, on Thursday, December 4, 2008. The meetings will convene at 1 p.m., which will continue until approximately 4 p.m., and again at 6 p.m. which will continue until approximately 9 p.m. The meetings will be transcribed and will include the following: (1) An overview by the NRC staff of the environmental review process, the proposed scope of the EIS, and the proposed review schedule; (2) the opportunity for interested government agencies, organizations, and individuals to submit comments on the environmental issues or the proposed scope of the EIS. Additionally, the NRC staff will host informal discussions for one hour prior to the start of each public meeting. No formal comments on the proposed scope of the EIS will be accepted during the informal discussions. To be considered, comments must be provided either at the transcribed public meeting or in writing, as discussed below. Persons may register to attend or present oral comments at the meeting on the scope of the NEPA review by contacting Mr. Douglas Bruner or Ms. Jessie M. Muir at 1-800-368-5642, extensions 2730 or 0491, respectively. In addition, persons can register via e-mail to the NRC at Levy.COLEIS@nrc.gov no later than November 26, 2008.

Members of the public may also register to speak at the meeting prior to of the start of the session. Individual oral comments may be limited by the time available, depending on the number of persons who register. Members of the public who have not registered may also have an opportunity to speak, if time permits. Public comments will be considered in the scoping process for the EIS. If special equipment or accommodations are needed to attend or present information at the public meeting, the need should be brought to Mr. Bruner's or Ms. Muir's attention no later than November 20, 2008, so that the NRC staff can determine whether the request can be accommodated.

Members of the public may send written comments on the scope of the Levy LWA and COL environmental review to the Chief, Rules and Directives Branch, Division of Administrative Services, Office of Administration, Mailstop T-6D59, U.S. Nuclear Regulatory Commission, Washington, DC 20555-0001, and should cite the publication date and page number of this Federal Register notice. Comments may be hand-delivered to the NRC at 11545 Rockville Pike, Rockville, Maryland, between 7:30 a.m. and 4:15 p.m., on Federal workdays. To be considered in the scoping process, written comments must be postmarked or delivered by the comment period end date December 23, 2008. Electronic comments may be sent by e-mail to the NRC at Levy.COLEIS@nrc.gov. Electronic submissions must be sent no later than the comment period end date of December 23, 2008, to be considered in the scoping process.

Participation in the scoping process for the EIS does not entitle participants to become parties to the proceeding to which the EIS relates. Notice of a hearing regarding the application for COL will be noticed separately in the Federal Register.

At the conclusion of the scoping process, the NRC will prepare a concise summary of the determination and conclusions on the scope of the environmental review reached, including the significant issues identified, and it will be made publicly available. The staff will then prepare and issue for comment the draft EIS, which will be the subject of a separate Federal Register notice and a separate public meeting. Copies will be available for public inspection at the PDR through the above-mentioned address and one copy per request will be provided free of charge.

After receipt and consideration of the comments, the NRC will prepare a final EIS, which will also be available to the public. Information about the proposed action, the EIS, and the scoping process may be obtained from Mr. Douglas Bruner or Ms. Jessie M. Muir at 1-800-368-5642, extensions 2730 or 0491, respectively, or via e-mail at Douglas.Bruner@nrc.gov, or Jessie.Muir@nrc.gov.

Dated at Rockville, Maryland, this 17th day of October, 2008.
For the Nuclear Regulatory Commission.
Andy Campbell,
Acting Director, Division of Site and Environmental Reviews, Office of New Reactors.

[FR Doc. E8-25381 Filed 10-23-08; 8:45 am]

BILLING CODE 7590-01-P